DEPARTMENT OF THE INTERIOR

National Park Service

[NPS-NER-NIFA-11324: 4533-685]

Notice of Niagara Falls National Heritage Area Commission Meeting Closure

AGENCY: National Park Service, Interior.

ACTION: Notice of meeting closure.

SUMMARY: Notice is hereby given for the partial closure of the September 26, 2012, meeting of the Niagara Falls National Heritage Area Commission. The federally appointed Commission serves as the guiding body for Niagara Falls National Heritage Area.

DATES: The Commission will meet on Wednesday, September 26, 2012, at 9:30 a.m. (Eastern).

ADDRESSES: The meeting will take place at Niagara University's Bisgrove Hall, Room 250. The University is located at 5795 Lewiston Road, Niagara University, New York 14109. Parking is limited on campus but readily available in the eastern lots of the Power Vista.

FOR FURTHER INFORMATION ON MEETING CONTACT: Debbie Conway, Superintendent, Fort Stanwix National Monument, 112 East Park St., Rome, New York 13440; telephone (315) 336-3113.

Proposed SRC Meeting Agenda

The proposed meeting agenda includes the following:

1. Public Comments.

2. Executive Session.

3. Review of August 29, 2012 Minutes.

4. Committee Reports.

5. Project Updates.

6. Presentation by Lewiston Web Solutions.

7. Adjourn Meeting.

The meeting is open to the public and will have time allotted for public testimony. Public comments will be heard at the beginning of the meeting and will be limited to 5 minutes per person. Before including your address, telephone number, email address, or other personal identifying information in your comment, you should be aware that your entire comment—including your personal identifying information—may be made publicly available at any time. While you can ask us in your comment to withhold your personal identifying information from public review, we cannot guarantee that we will be able to do so.

Debbie Conway,
Superintendent, Fort Stanwix National Monument and Designated Federal Official for the Commission.

[FR Doc. 2012-23692 Filed 9-25-12; 8:45 am]

BILLING CODE 4310-D2-P